ENVIRONMENTAL PROTECTION AGENCY

[FRL-7996-3]

Clean Water Act Section 303(d): Availability of 43 Total Maximum Daily Loads (TMDLs)

AGENCY: Environmental Protection Agency (EPA).

ACTION: Notice of availability.

SUMMARY: This notice announces the availability of the administrative record file for comment on 43 TMDLs and the calculations for these TMDLs prepared by EPA Region 6 for waters listed in the state of Arkansas under section 303(d) of the Clean Water Act (CWA). These TMDLs were completed in response to the lawsuit styled Sierra Club, et al. v. Browner, et al., No. LR-C-99-114.

DATES: Comments must be submitted in writing to EPA on or before December 12, 2005.

ADDRESSES: Comments on the 43 TMDLs should be sent to Ms. Diane Smith, Environmental Protection Specialist, Water Quality Protection Division, U.S. Environmental Protection Agency Region 6, 1445 Ross Ave., Dallas, TX 75202-2733, facsimile (214) 665-7373, or e-mail: smith.diane@epa.gov. For further information, contact Diane Smith at (214) 665-2145. Documents from the administrative record file for these TMDLs are available for public inspection at this address as well. Documents from the administrative record file may be viewed at http://www.epa.gov/region6/water/artmdl.htm, or obtained by calling (214) 665-2145 or writing Ms. Smith at the above address. Please contact Ms. Smith to schedule an inspection.

FOR FURTHER INFORMATION CONTACT: Diane Smith at (214) 665-2145.

SUPPLEMENTARY INFORMATION: In 1999, five Arkansas environmental groups, the Sierra Club, Federation of Fly Fishers, Crooked Creek Coalition, Arkansas Fly Fishers, and Save our Streams (plaintiffs), filed a lawsuit in Federal Court against the EPA, styled Sierra Club, et al. v. Browner, et al., No. LR-C-99-114. Among other claims, plaintiffs alleged that EPA failed to establish Arkansas TMDLs in a timely manner. EPA proposes these TMDLs pursuant to a consent decree entered in this lawsuit.

EPA Seeks Comments on 43 TMDLs

By this notice EPA is seeking comment on the following 43 TMDLs for waters located within the state of Arkansas:

Segment-reach | Waterbody name | Pollutant
08020401-003 | Wabbaseka Bayou | Siltation/turbidity.
11110205-011 | Cadron Creek | Siltation/turbidity.
11110205-012 | Cadron Creek | Siltation/turbidity.
11110203-927 | White Oak Creek | Siltation/turbidity.
08020302-004 | Bayou Deview | Siltation/turbidity.
08020302-005 | Bayou Deview | Siltation/turbidity.
08020302-006 | Bayou Deview | Siltation/turbidity.
08020302-007 | Bayou Deview | Siltation/turbidity.
08020302-009 | Bayou Deview | Siltation/turbidity.
08020302-016 | Cache River | Siltation/turbidity.
08020302-017 | Cache River | Siltation/turbidity.
08020302-018 | Cache River | Siltation/turbidity.
08020302-019 | Cache River | Siltation/turbidity.
08020302-020 | Cache River | Siltation/turbidity.
08020302-021 | Cache River | Siltation/turbidity.
08020302-027 | Cache River | Siltation/turbidity.
08020302-028 | Cache River | Siltation/turbidity.
08020302-029 | Cache River | Siltation/turbidity.
08020302-031 | Cache River | Siltation/turbidity.
08020302-032 | Cache River | Siltation/turbidity.
11010013-006 | Village Creek | Siltation/turbidity.
11010013-007 | Village Creek | Siltation/turbidity.
11010013-008 | Village Creek | Siltation/turbidity.
11010013-012 | Village Creek | Siltation/turbidity.
11010013-014 | Village Creek | Siltation/turbidity.
11010014-009 | Ten Mile Creek | Siltation/turbidity.
11010012-004 | Strawberry River | Siltation/turbidity.
11010012-005 | Strawberry River | Siltation/turbidity.
11010012-006 | Strawberry River | Siltation/turbidity.
11010 12-008 | Strawberry River | Siltation/turbidity.
11010012-009 | Strawberry River | Siltation/turbidity.
11010012-010 | Little Strawberry River | Siltation/turbidity.
11010012-011 | Strawberry River | Siltation/turbidity.
11010001-023 | West Fork White River | Siltation/turbidity.
11010001-024 | White River | Siltation/turbidity.
08020203-012 | Tyronza River | Siltation/turbidity.
11110105-001 | Poteau River near Fort Smith | Siltation/turbidity.
11110105-031L | Poteau River near Waldron | Total phosphorus, Copper, and Zinc.
11140109-919 | Rolling Fork | Total phosphorus, and Nitrate.
11010001-045L | Osage Creek near Berryville | Total phosphorus.

EPA requests that the public provide to EPA any water quality related data and information that may be relevant to the calculations for these 43 TMDLs. EPA will review all data and information submitted during the public comment period and revise the TMDLs and determinations where appropriate. EPA will then forward the TMDLs to the Arkansas Department of Environmental Quality (ADEQ). The ADEQ will incorporate the TMDLs into its current water quality management plan.

Dated: November 4, 2005.
Miguel I. Flores,
Director, Water Quality Protection Division, EPA, Region 6.

[FR Doc. 05-22547 Filed 11-9-05; 8:45 am]

BILLING CODE 6560-50-P